FEDERAL DEPOSIT INSURANCE CORPORATION

Agency Information Collection Activities: Proposed Collection Renewals; Comment Request

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995. Currently, the FDIC is soliciting comment on the renewal of information collections 3064-0092, 3064-0099, 3064-0118, & 3064-0149, described below.

DATES: Comments must be submitted on or before March 17, 2014.

ADDRESSES: Interested parties are invited to submit written comments to the FDIC by any of the following methods:

• http://www.FDIC.gov/regulations/laws/federal/notices.html.

• E-Mail: comments@fdic.gov Include the name and number of the collection in the subject line of the message.

• Mail: Gary A. Kuiper (202.898.3877), Counsel, Room NYA-5046, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Gary A. Kuiper, at the FDIC address above.

SUPPLEMENTARY INFORMATION:

Proposal To Renew the Following Currently-Approved Collections of Information

1. Title: Community Reinvestment Act.

OMB Number: 3064-0092.

Form Number: FDIC.

Frequency of Response: On occasion.

Affected Public: Insured state nonmember banks and state savings associations.

Estimated Reporting Burden—The reporting requirements involve approximately 257 large banks:

257 respondents; 82,223 reporting burden hours

Estimated Recordkeeping Burden—The recordkeeping requirements involve approximately 257 large banks:

257 record keepers; 83,233 recordkeeping burden hours

Estimated Disclosure Burden—The public file and public notice disclosure requirements involve 4524 small banks and 257 large banks:

4781 respondents @ 10 hours = 47,810 total disclosure burden hours.

Total CRA Burden—The FDIC estimates the combined estimated total annual reporting, recordkeeping, and disclosure burden at 213,266 hours.

General Description of Collection: The Community Reinvestment Act regulation requires the FDIC to assess the record of banks and thrifts in helping meet the credit needs of their entire communities, including low- and moderate-income neighborhoods, consistent with safe and sound operations; and to take this record into account in evaluating applications for mergers, branches, and certain other corporate activities.

2. Title: Application for Waiver of Prohibition on Acceptance of Brokered Deposits

OMB Number: 3064-0099.

Form Number: None.

Frequency of Response: On occasion.

Affected Public: Insured state nonmember banks and state savings associations.

Estimated Number of Applications: 85.

Estimated Time per Application: 6 hours.

Total Annual Burden: 510 hours.

General Description of Collection: Section 29 of the Federal Deposit Insurance Act prohibits undercapitalized insured depository institutions from accepting, renewing, or rolling over any brokered deposits. Adequately capitalized institutions may do so with a waiver from the FDIC, while well-capitalized institutions may accept, renew, or roll over brokered deposits without restriction.

3. Title: Management Official Interlocks.

OMB Number: 3064-0118.

Form Number: None.

Affected Public: Insured state nonmember banks and state savings associations.

Estimated Number of Respondents: 10.

Frequency of Response: On occasion.

Estimated Annual Burden Hours per Response: 4 hours.

Total estimated annual burden: 40 hours.

General Description of Collection: The FDIC's Management Official Interlocks regulation, 12 CFR 348, which implements the Depository Institutions Management Interlocks Act (DIMIA), 12 U.S.C. 3201-3208, generally prohibits bank management officials from serving simultaneously with two unaffiliated depository institutions or their holding companies but allows the FDIC to grant exemptions in appropriate circumstances. Consistent with DIMIA, the FDIC's Management Official Interlocks regulation has an application requirement requiring information specified in the FDIC's procedural regulation. The rule also contains a notification requirement.

4. Title: Affordable Marketing/Consumer Opt-Out Notices.

OMB Number: 3064-0149.

Form Number: None.

Affected Public: Insured state nonmember banks and state savings associations.

Estimated Burden on Institutions:

978 × 18 hours = 17,604 hours.

Estimated Burden on Consumers:

Number of large-bank consumers who opt out = 39 × 25,000 × 0.035 | = 34,125
Number of small-bank consumers who opt out = 939 × 5,000 × 0.035 | = 164,325
Total number of consumers who opt out = 34,125 + 164,325 | = 198,450

Estimated time per consumer opt-out = 5 minutes.

Estimated burden on consumers who opt out = 198,450 × 5/60 hours = 16,537.5 hours.

Total Estimated Burden: 17,604 hours + 16,537.5 hours = 34,141.5 hours.

General Description of Collection: The Section 214 of the FACT Act requires financial institutions to disclose to consumers the opportunity to opt out of marketing solicitations from affiliates. The disclosures and responsive consumer opt-out notices comprise the elements of this collection of information.

Request for Comment

Comments are invited on: (a) Whether the collections of information are necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 10th day of January 2014.
Federal Deposit Insurance Corporation.
Robert E. Feldman,
Executive Secretary.

[FR Doc. 2014-00676 Filed 1-15-14; 8:45 am]

BILLING CODE 6714-01-P